DEPARTMENT OF AGRICULTURE

Agricultural Marketing Service

[Docket Number FV-04-306]

United States Standards for Grades of Watermelons

AGENCY: Agricultural Marketing Service, USDA.

ACTION: Notice.

SUMMARY: The Agricultural Marketing Service (AMS), prior to undertaking research and other work associated with revising an official grade standard, is soliciting comments on a petition to revise the United States Standards for Grades of Watermelons. AMS has received a petition from the National Watermelon Association (NWA) requesting a definition for seedless watermelons be added to the standard. Additionally, the petition included a request to add a variance to the size requirements.

DATES: Comments must be received by June 21, 2004.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov or you may also send your comments by the electronic process available at Federal eRulemaking portal at http://www.regulations.gov. Comments should make reference to the dates and page number of this issue of the Federal Register and will be made available for public inspection in the above office during regular business hours.

FOR FURTHER INFORMATION CONTACT: David L. Priester, at the above address or call (202) 720-2185; E-mail David.Priester@usda.gov.

SUPPLEMENTARY INFORMATION:

Background

AMS received a petition from the NWA requesting a revision to the United States Standards for Grades of Watermelons. These standards were last revised in 1978. The petitioner is requesting that USDA add the following definition: “Seedless Watermelons” are watermelons which have 16 or less mature seeds, not to include pips/caplets, on the face of the melon which has been cut into four equal sections (one lengthwise cut and one crosswise cut). Additionally, the petitioner is requesting the size requirements be revised. Currently the size requirements states, “When the size of the watermelon is stated in terms of average weight, unless otherwise specified, the melons in any lot averaging less than 30 pounds (13.6 kgs.) shall not vary more than 3 pounds (1.4 kgs.) below the stated average, and the melons in any lot averaging 30 pounds (13.6 kgs.) or more shall not vary more than 5 pounds (2.3 kgs.) below the stated average.” The petitioner is requesting the size requirement be revised to allow for watermelons to vary 3 pounds above or below the average. Therefore, the size requirement would state, “When the size of the watermelons is stated in terms of average weight, unless otherwise specified, the melons in any lot averaging less than 30 pounds (13.6 kgs.) shall not vary more than 3 pounds (1.4 kgs.) above or below the stated average, and the melons in any lot averaging 30 pounds (13.6 kgs.) or more shall not vary more than 5 pounds (2.3 kgs.) below the stated average.”

Agricultural Marketing Service

Prior to undertaking detailed work to develop a proposed revision to the standard, AMS is soliciting comments on the petition submitted to revise the United States Standards for Grades of Watermelons.

This notice provides for a 60-day comment period for interested parties to comment on changes to the standard. Should AMS conclude that there is an interest in the proposal, the Agency will develop a proposed revised standard that will be published in the Federal Register with a request for comments in accordance with 7 CFR Part 36.

Authority: 7 U.S.C. 1621-1627.

Dated: April 19, 2004.
A. J. Yates,
Administrator, Agricultural Marketing Service.

[FR Doc. 04-9159 Filed 4-21-04; 8:45 am]

BILLING CODE 3410-02-P